DEPARTMENT OF DEFENSE

Department of the Navy

Notice of Intent to Grant a Partially Exclusive Patent License; Sanofi Pasteur S.A.

AGENCY: Department of the Navy, DOD.

ACTION: Notice.

SUMMARY: The Department of the Navy hereby gives notice of its intent to grant to Sanofi Pasteur S.A., a revocable, nonassignable, partially exclusive license to practice worldwide the Government owned inventions described in U.S. Patent Application Serial No. 11/340,003 with inventor Stephen J. Savarino filed on 10 January 2006, entitled “Adhesin as Immunogen Against Enterotoxigenic E. coli” and its related PCT/US2006/000660 National Phase applications in Australia, Canada, Europe, Japan and India filed 11 July 2007; and U.S. Patent Application Serial No. 11/988,598 with inventors Stephen J. Savarino, Randall K. Holmes and Michael Jobling filed on 11 January 2007, entitled “Adhesin-Enterotoxin Chimera Based Composition Against Enterotoxigenic E. coli” and its related PCT/US2007/000712 National Phase applications in Australia, Canada, Europe, and Japan filed 10 January 2008 in the field of “Protection against ETEC (Enterotoxigenic Escherichia Coli) associated diarrhea in both endemic zones and for travelers, including the military.”

DATES: Anyone wishing to object to the grant of this license has fifteen (15) days from the date of this notice to file written objections along with supporting evidence, if any. Written objections are to be filed with the Office of Technology Transfer, Naval Medical Research Center, 503 Robert Grant Ave., Silver Spring, MD 20910-7500, telephone (301) 319-7428.

ADDRESSES: Written objections are to be filed with the Office of Technology Transfer, Naval Medical Research Center, 503 Robert Grant Ave., Silver Spring, MD 20910-7500.

FOR FURTHER INFORMATION CONTACT: Dr. Charles Schlagel, Director, Office of Technology Transfer, Naval Medical Research Center, 503 Robert Grant Ave., Silver Spring, MD 20910-7500, telephone (301) 319-7428.

Dated: August 18, 2009.
A.M. Vallandingham,
Lieutenant Commander, Judge Advocate General's Corps, U.S. Navy, Federal Register Liaison Officer.

[FR Doc. E9-20363 Filed 8-24-09; 8:45 am]

BILLING CODE 3810-FF-P